DEPARTMENT OF HOUSING AND URBAN DEVELOPMENT

[Docket No. FR-7092-N 05]

30-Day Notice of Proposed Information Collection: Public Housing Agency (PHA), Lease Requirements, Recordkeeping Requirements; OMB Control No.: 2577-0006

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: March 31, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, Clearance Officer, Paperwork Reduction Act Division, PRAD, Department of Housing and Urban Development, 451 7th Street SW, Washington, DC 20410; email at Anna.P.Guido@hud.gov, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A. The Federal Register notice that solicited public comment on the information collection for a period of 60 days was published on October 3, 2024 at 89 FR 80591.

A. Overview of Information Collection

Title of Information Collection: Public Housing Agency (PHA), Lease Requirements, Recordkeeping Requirements.

OMB Approval Number: 2577-0006.

Type of Request: Revision with change of a currently approved collection.

Form Number: NA.

Description of the need for the information and proposed use: The Public Housing (PH) dwelling lease and grievance procedures are required by the United States Housing Act of 1937, specifically under Sections 6(k) and 6(l). These sections outline requirements such as establishing administrative grievance procedures for Public Housing Agencies (PHAs), utilizing leases with a 12-month term automatically renewed except for specific noncompliance instances, and specifying lease provisions for families paying the alternative non-public housing rent (alternative rent). Detailed regulations can be found in 24 CFR part 966—Public Housing Lease and Grievance Procedure, Subpart A—Dwelling Leases, Procedures, and Subpart B—Grievance Procedures and Requirements. Upon renting and receiving rental housing assistance, residents must sign a lease and acknowledge the grievance procedures, as outlined by the Department of Housing and Urban Development (HUD). PHAs are responsible for maintaining records and following these procedures, ensuring consistency with HUD's legal and administrative obligations.

The implementation of the Housing Opportunity Through Modernization Act of 2016 (HOTMA) created new lease requirements in both section 24 CFR 960.507 and 24 CFR 960.509 and made modifications to section 24 CFR 966.4 (a)(2)(iii). PHAs must now modify the PH lease to become month-to-month in the period before termination of an over-income family and 24 CFR 960.509 explains the new lease requirements for Non-Public Housing Over-Income (NPHOI) families. 24 CFR 960.509 stipulates that over-income families permitted to continue as tenants must pay the alternative rent and sign the lease for NPHOI families no later than either the next lease renewal or 60 days after receiving the third notification outlined in 24 CFR 960.507(c)(3), whichever comes first. HUD specifies various provisions required in leases for NPHOI families, including details about lease parties, duration, covered costs, renewal or termination procedures, tenant rent and potential charges, usage rights, PHA and tenant responsibilities, repair and access obligations, lease termination processes, grievance procedures, and modification protocols.

Information collection | Number of respondents | Frequency of response | Responses per annum | Burden hour per response | Annual burden hours | Hourly cost per response | Annual cost
Tenant leases and grievance procedures (recordkeeping) | 809,425 | 1.4 | 1,133,195 | .5 | 566,598 | $25.97 | $14,714,550
Total | 809,425 | 1.4 | 1,133,195 | .5 | 566,598 | 25.97 | 14,714,550

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna Guido,
Department Clearance Officer, Office of Policy Development and Research, Chief Data Officer.

[FR Doc. 2025-03242 Filed 2-27-25; 8:45 am]

BILLING CODE 4210-67-P